DEPARTMENT OF ENERGY

Federal Energy Regulatory Commission

Combined Notice of Filings #2

Take notice that the Commission received the following electric rate filings:

Docket Numbers: ER20-420-001.

Applicants: Midcontinent Independent System Operator, Inc.

Description: Tariff Amendment: 2020-01-08_SA 3375 Entergy Arkansas-Searcy Solar Substitute GIA (J893) to be effective 11/5/2019.

Filed Date: 1/8/20.

Accession Number: 20200108-5103.

Comments Due: 5 p.m. ET 1/29/20.

Docket Numbers: ER20-558-001.

Applicants: Duke Energy Carolinas, LLC.

Description: Tariff Amendment: DEC-NCEMC Amendment to NITSA Amendment (SA No. 210) to be effective 1/1/2020.

Filed Date: 1/8/20.

Accession Number: 20200108-5119.

Comments Due: 5 p.m. ET 1/29/20.

Docket Numbers: ER20-573-001.

Applicants: GridLiance Heartland LLC.

Description: Tariff Amendment: Amended GLH Certificate of Concurrence Filing to be effective 12/31/9998.

Filed Date: 1/8/20.

Accession Number: 20200108-5083.

Comments Due: 5 p.m. ET 1/29/20.

Docket Numbers: ER20-752-000.

Applicants: Emera Maine.

Description: § 205(d) Rate Filing: Interconnection Agreement Houlton Water Company to be effective 12/31/9998.

Filed Date: 1/8/20.

Accession Number: 20200108-5075.

Comments Due: 5 p.m. ET 1/29/20.

Docket Numbers: ER20-753-000.

Applicants: Southern California Edison Company.

Description: § 205(d) Rate Filing: Third Amendment Interconnection Agreement Wintec V WDT1014 SA No. 525 to be effective 1/9/2020.

Filed Date: 1/8/20.

Accession Number: 20200108-5082.

Comments Due: 5 p.m. ET 1/29/20.

Docket Numbers: ER20-754-000.

Applicants: Public Service Company of Colorado.

Description: § 205(d) Rate Filing: PSC-Nereo-NonConf-LGIA-555-0.0.0 to be effective 1/9/2020.

Filed Date: 1/8/20.

Accession Number: 20200108-5088.

Comments Due: 5 p.m. ET 1/29/20.

Docket Numbers: ER20-755-000.

Applicants: Midcontinent Independent System Operator, Inc., ITC Midwest LLC.

Description: § 205(d) Rate Filing: 2020-01-08_SA 3397 ITC-MEC FSA (J475) to be effective 3/9/2020.

Filed Date: 1/8/20.

Accession Number: 20200108-5090.

Comments Due: 5 p.m. ET 1/29/20.

Docket Numbers: ER20-756-000.

Applicants: North Jersey Energy Associates, A Limited Partnership.

Description: Compliance filing: Informational Filing Regarding Upstream Change in Control and Request for Waiver to be effective 3/9/2020.

Filed Date: 1/8/20.

Accession Number: 20200108-5101.

Comments Due: 5 p.m. ET 1/29/20.

Docket Numbers: ER20-757-000.

Applicants: Pacific Gas and Electric Company.

Description: § 205(d) Rate Filing: Amendment to Silicon Valley Power Agreement (RS 248) to be effective 3/9/2020.

Filed Date: 1/8/20.

Accession Number: 20200108-5114.

Comments Due: 5 p.m. ET 1/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2020.
Nathaniel J. Davis, Sr.,
Deputy Secretary.

[FR Doc. 2020-00435 Filed 1-13-20; 8:45 am]

BILLING CODE 6717-01-P